FEDERAL TRADE COMMISSION

Granting of Request for Early Termination of the Waiting Period Under the Premerger Notification Rules

Section 7A of the Clayton Act, 15 U.S.C. 18a, as added by Title II of the Hart-Scott-Rodin Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
April 1, 2013 thru April 30, 2013
04/02/2013
20130684 | G | Kirk Kerkorian; MGM Resorts International; Kirk Kerkorian.
04/03/2013
20130705 | G | Encore Capital Group, Inc.; Asset Acceptance Capital Corp.; Encore Capital Group, Inc.
04/04/2013
20130721 | G | Cynosure, Inc.; Palomar Medical Technologies, Inc.; Cynosure, Inc.
04/05/2013
20130183 | G | ASML Holding N.V.; Cymer, Inc.; ASML Holding N.V.
20130722 | G | Trio Merger Corp.; Jeffrey Hastings; Trio Merger Corp.
20130729 | G | Royal Dutch Shell plc; Repsol S.A.; Royal Dutch Shell plc.
20130737 | G | H.I.G. Bayside Debt & LBO Fund II, L.P.; Wayzata Opportunities Fund II, L.P.; H.I.G. Bayside Debt & LBO Fund II, L.P.
04/08/2013
20130716 | G | Liberty Media Corporation; Charter Communications, Inc.; Liberty Media Corporation.
20130736 | G | Shire plc; SARcode Bioscience Inc.; Shire plc.
20130746 | G | Mill Luxembourg Holdings 2 S.a.r.l.; CSM N.Y.; Mill Luxembourg Holdings 2 S.a.r.l.
04/10/2013
20130687 | G | Carl C. Icahn; Dell Inc.; Carl C. Icahn.
20130740 | G | Foundation Capital VI, LP; LendingClub Corporation; Foundation Capital VI, LP.
04/11/2013
20130517 | G | ARRIS Enterprises I, Inc.; Google Inc.; ARRIS Enterprises I, Inc.
20130730 | G | ValueAct Capital Master Fund, L.P.; MICROS Systems, Inc.; ValueAct Capital Master Fund, L.P.
20130738 | G | KIA VIII (Power), L.P.; PowerTeam Services, LLC; KIA VIII (Power), L.P.
20130741 | G | AltaGas Ltd.; LS Power Equity Partners II, L.P.; AltaGas Ltd.
04/12/2013
20130739 | G | Novafives SAS; MAG LAS Holdings, Inc.; Novafives SAS.
20130748 | G | Cummins Inc.; William H. Wolpert; Cummins Inc.
20130751 | G | Michael S. Dell; Dell Inc.; Michael S. Dell.
20130752 | G | CVCI Growth Partnership II, L.P.; HOV Services Limited; CVCI Growth Partnership II, L.P.
20130754 | G | Funai Electric Co., Ltd.; Koninklijke Philips Electronics N.Y.; Funai Electric Co., Ltd.
04/16/2013
20130758 | G | General Electric Company; EMC Corporation; General Electric Company.
04/17/2013
20130755 | G | E. Stanley Kroenke; Outdoor Channel Holdings, Inc.; E. Stanley Kroenke.
20130761 | G | KIA VIII (International) L.P.; EACOM Timber Corporation; KIA VIII (International) L.P.
20130764 | G | Gordon E. Moore; Gilead Sciences, Inc.; Gordon E. Moore.
04/18/2013
20130753 | G | Acadia Healthcare Company, Inc.; Donald R. Dizney; Acadia Healthcare Company, Inc.
20130763 | G | Silver Ridge Power Inc.; The AES Corporation; Silver Ridge Power Inc.
04/22/2013
20130658 | G | Bain Capital Fund IX, L.P.; ABILITY Network, Inc.; Bain Capital Fund IX, L.P.
20130760 | G | FCPR Astorg V managed by Astorg Partners SAS; Areva S.A.; FCPR Astorg V managed by Astorg Partners SAS.
20130771 | G | Churchill Downs Incorporated; Black Bear Realty Co., LLC; Churchill Downs Incorporated.
20130772 | G | NCT Fund, L.P.; American International Group, Inc.; NCT Fund, L.P.
20130776 | G | Friedman Fleischer & Lowe Capital Partners III, L.P.; Lime Rock Partners IV, L.P.; Friedman Fleischer & Lowe Capital Partners III, L.P.
20130777 | G | KKR Asian Fund L.P.; Warburg Pincus Private Equity IX, L.P.; KKR Asian Fund L.P.
20130778 | G | Investor AB; Nordic Capital V, LP; Investor AB.
04/25/2013
20130762 | G | Francisco Partners III (Cayman), L.P.; Corsair Components, Inc.; Francisco Partners III (Cayman), L.P.
20130773 | G | Thomas H. Lee Equity Fund VI, L.P.; CompuCom Systems Holding Corp.; Thomas H. Lee Equity Fund VI, L.P.
20130775 | G | Avago Technologies Limited; CyOptics, Inc.; Avago Technologies Limited.
20130784 | G | NRG Energy, Inc.; Manulife Financial Corporation; NRG Energy, Inc.
04/26/2013
20130794 | G | Roper Industries, Inc.; Diamond Castle Partners IV, L.P.; Roper Industries, Inc.

FOR FURTHER INFORMATION CONTACT: Renee Chapman, Contact Representative, or Theresa Kingsberry, Legal Assistant, Federal Trade Commission, Premerger Notification Office, Bureau Of Competition, Room H-303, Washington, DC 20580, (202) 326-3100.

By Direction of the Commission.
Donald S. Clark,
Secretary.

[FR Doc. 2013-11201 Filed 5-13-13; 8:45 am]

BILLING CODE 6750-01-M